DEPARTMENT OF COMMERCE

Census Bureau

Agency Information Collection Activities; Submission to the Office of Management and Budget (OMB) for Review and Approval; Comment Request; Annual Survey of Manufactures

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Annual Survey of Manufactures, prior to the submission of the information collection request (ICR) to OMB for approval.

DATES: To ensure consideration, comments regarding this proposed information collection must be received on or before November 9, 2020.

ADDRESSES: Interested persons are invited to submit written comments by email to Thomas.J.Smith@census.gov. Please reference Annual Survey of Manufactures in the subject line of your comments. You may also submit comments, identified by Docket Number USBC-2020-0024, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Marlo Thornton, Assistant Division Chief, Manufacturing, Mining, and Construction Sectors, Economy-Wide Statistics Division, U.S. Census Bureau, (301) 763-7170, or email Marlo.N.Thornton@Census.gov.

SUPPLEMENTARY INFORMATION:

I. Abstract

The Census Bureau has conducted the Annual Survey of Manufactures (ASM) since 1949 to provide key measures of manufacturing activity during intercensal periods. In economic census years ending in “2” and “7”, we do not conduct the ASM. ASM estimates are key inputs for multiple federal statistical programs, including the Bureau of Economic Analysis' National Income and Product Accounts. The ASM furnishes up-to-date estimates of employment and payroll, hours and wages of production workers, value added by manufacture, cost of materials, value of shipments by the North American Product Classification System (NAPCS) product codes, inventories, and expenditures for both plant equipment and structures. The survey provides data at the two-through six-digit North American Industry Classification System (NAICS) levels. It also provides geographic data by state at a more aggregated industry level.

ASM estimates are key inputs for multiple federal statistical programs. Federal agencies use the annual survey's input and output data as benchmarks for their statistical programs, including the Federal Reserve Board's Index of Industrial Production and BEA's National Income and Product Accounts. The data also provide the Department of Energy with primary information on the use of energy by the manufacturing sector to produce manufactured products. These data also are used as benchmark data for the Manufacturing Energy Consumption Survey, which is conducted for the Department of Energy by the Census Bureau. Within the Census Bureau, the ASM data are used to benchmark and reconcile monthly and quarterly data on manufacturing production and inventories. The ASM is the only source of complete establishment statistics for the programs mentioned above. The survey also provides valuable information to private companies, research organizations, and trade associations. Industry makes extensive use of the annual figures on product class shipments at the U.S. level in market analyses, product planning, and investment planning. State development/planning agencies rely on the survey as a major source of comprehensive economic data for policymaking, planning, and administration. The Census Bureau plans to request a revision of a currently approved collection. We plan to make the following changes:

MA-10000—Multiple Establishment Companies and MA-10000—Single Establishment Companies:

A. Content related to the Coronavirus Pandemic:

1. Item 28—Special Inquiry:

Add a question asking respondents to provide the number of days their location was closed due to the coronavirus pandemic. This question will assist with measuring the impact on plant operations due to the Coronavirus Pandemic.

The primary objective of adding this and other questions related to the Coronavirus Pandemic described below is to measure the impact of the Coronavirus Pandemic on the manufacturing sector and manufacturing establishments, and meet the needs of the data user community. As we continue in these unprecedented times, the Coronavirus Pandemic content may shift, change or evolve and require further modifications on the ASM.

2. Item 5 and Item 28—Special Inquiry:

Add a statement to Item 5 to specify/clarify that donated products should be included in the value.

Add a question asking respondents if they donated products and the associated value of the donated products (breakout of Item 5, line A). Attempt to gather information on the value of shipments related to donated products by industry.

3. Item 7:

Add questions asking respondents to provide the payroll for production workers at the establishment by quarter. Collecting payroll information by range of months, rather than a point in time will reflect variability.

4. Item 22:

Add the following NAPCS to electronic instrument for all respondents:

a. 2017900000—Manufacturing of nonelectric breathing devices (including N95 and other respirators), incubators, inhalators, and resuscitators, and other surgical and medical apparatus and instruments, excluding anesthetic apparatus and parts.

b. 2018000000—Manufacturing of electromedical equipment (including diagnostic, therapeutic, patient monitoring equipment, and ventilators), excluding ionizing radiation equipment.

c. 2050375000—Manufacturing of personal safety equipment and clothing, industrial and nonindustrial, including respiratory protection, face shields, masks, and protective clothing, excluding footwear, gloves, and surgical and medical respirators.

d. 2045875000—Manufacturing of surgical appliances and supplies, including surgical gloves, bandages, gauze, cotton (sterile and non-sterile), and other surgical dressings, excluding orthopedic and prosthetic appliances.

e. 2010475000—Manufacturing of bath, facial, and hand soaps, including hand sanitizers.

f. 2007875000—Manufacturing of other household specialty cleaning and sanitation products, including disinfectants.

Industries have shifted to produce goods they normally do not produce. Adding the proposed NAPCS questions to all forms will assist with capturing a shift in production lines.

B. Revisions related to integrating annual surveys: The Census Bureau is undertaking an initiative to integrate and re-engineer select annual programs. Programs include the Annual Survey of Manufactures (ASM), Annual Retail Trade Survey (ARTS), Annual Wholesale Trade Survey (AWTS), Services Annual Survey (SAS), Annual Capital Expenditures Survey (ACES), Manufacturing Shipments Inventories and Unfilled Orders (M3UFO), and Company Organizational Survey (COS). Efforts include coordinating collection strategies/instruments/communication; integrating, changing or revising content; ensuring content is relevant; coordinating samples; and improving frame and coordinating status updates across annual surveys. The initiative to integrate and re-engineer select annual programs is scheduled to begin implementation in survey year 2023. The goal is to shift select annual programs from individual independent surveys to a streamlined integrated annual program. The new annual program will move from industry focused, individual surveys to requesting a more holistic view of the companies. Prior to survey year 2023, we plan to begin to align our annual programs and improve efficiencies across programs in targeted areas related to consistent content, processes, and systems. The initiative is in response to data user needs (timely, granular, harmonized data), and declining response rates.

C. Item 7: Employment, Payroll, and Fringe Benefits: Add content collecting four quarters of payroll for production workers to be consistent with employment (Item 7A). Revisions and adjustments will be made to the presentation/layout/content of employment and payroll questions to streamline and improve the flow.

D. Item 5: Sales, Shipments, Receipts, or Revenue: Remove Item 5B, market value of products shipped to other domestic plants of the company for further assembly, fabrication, or manufacture. This question is poorly reported and not utilized by data users.

II. Method of Collection

The ASM statistics are based on a survey of active manufacturing establishments in the U.S. with one or more paid employees. The frame and sample are redesigned every 5 years and are annually supplemented with new manufacturing establishments. The frame is created from the preceding Economic Census—Manufacturing and is divided into mail and nonmail components. The mail portion of the survey consists of a probability sample that was redesigned for the 2019 ASM using a methodology similar to the one that was used for the 2014 ASM. However, the industry strata for the 2019 ASM frame were based on the 2017 NAICS, which combines some of the six-digit codes in the Manufacturing Sector. The mail frame contained all manufacturing establishments of multiunit companies (companies with operations at more than one location) in the 2017 Economic Census plus the largest single-location manufacturing companies within each manufacturing industry. For the 2019 ASM, approximately 49,400 establishments were selected from a mail frame of approximately 102,500 manufacturing establishments. The 2019 ASM nonmail component contained the remaining single-location companies, approximately 186,700 establishments. No data are collected from establishments in the nonmail component. Rather, data are imputed based on models that incorporate the administrative records of the Internal Revenue Service (IRS), the Social Security Administration (SSA), and the Bureau of Labor Statistics (BLS). Though the nonmail establishments account for nearly two-thirds of the universe, they account for less than 6 percent of the manufacturing output.

III. Data

OMB Control Number: 0607-0449.

Form Number(s): MA-10000—Multiple Establishment Companies; MA-10000—Single Establishment Companies.

Type of Review: Regular submission, Request for a Revision of a Currently Approved Collection.

Affected Public: Business or Other for Profit, Non-profit Institutions, and State or Local Governments.

Estimated Number of Respondents:

MA-10000—Multiple Establishment Companies | 34,161
MA-10000—Single Establishment Companies | 15,253
Total | 49,414

Estimated Time per Response:

MA-10000(L)—Multiple Establishment Companies | 3.5 hrs.
MA-10000(S)—Single Establishment Companies | 3.5 hrs.

Estimated Total Annual Burden Hours: 172,949.

Estimated Total Annual Cost to Public: $0. (This is not the cost of respondents' time, but the indirect costs respondents may incur for such things as purchases of specialized software or hardware needed to report, or expenditures for accounting or records maintenance services required specifically by the collection.)

Respondents Obligation: Mandatory.

Legal Authority: Title 13, United States Code, Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-19991 Filed 9-9-20; 8:45 am]

BILLING CODE 3510-07-P